DEPARTMENT OF HEALTH AND HUMAN SERVICES

Centers for Disease Control and Prevention

Board of Scientific Counselors, National Institute for Occupational Safety and Health (BSC, NIOSH); Correction

Notice is hereby given of a change in the Solicitation of Nominations for Appointment to the Board of Scientific Counselors, National Institute for Occupational Safety and Health (BSC, NIOSH); which was published in the Federal Register on March 9, 2020, Volume 85, No. 46, page 13653.

The received date for nominations of membership located in the DATES section should read as follows:

DATES: Nominations for membership on the BSC must be received no later than April 20, 2020. Packages received after this time will not be considered for the current membership cycle.

FOR FURTHER INFORMATION CONTACT: Alberto Garcia, M.S., Executive Secretary, CDC/NIOSH, 1090 Tusculum Avenue, MS R-5, Cincinnati, OH 45226, telephone (513) 841-4596; agarcia1@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-06246 Filed 3-24-20; 8:45 am]

BILLING CODE 4163-18-P